DEPARTMENT OF HEALTH AND HUMAN SERVICES

Food and Drug Administration

Nutrition Subcommittee of the Food Advisory Committee; Notice of Meeting

AGENCY: Food and Drug Administration, HHS.

ACTION: Notice.

This notice announces a forthcoming meeting of a public advisory committee of the Food and Drug Administration (FDA). The meeting will be open to the public.

Name of Committee: Nutrition Subcommittee of the Food Advisory Committee.

General Function of the Committee: To provide advice and recommendations to the agency on FDA's regulatory issues.

Date and Time: The meeting will be held on April 27, 2004, from 12:30 p.m. to 6 p.m., and April 28, 2004, from 8 a.m. to 4 p.m.

Location: Loew's L'Enfant Plaza Hotel, 480 L'Enfant Plaza, Washington, DC.

Contact Person: Jeanne Latham, Center for Food Safety and Applied Nutrition (HFS-800), Food and Drug Administration, 5100 Paint Branch Pkwy., College Park, MD 20740, 301-436-1756, or FDA Advisory Committee Information Line, 1-800-741-8138 (301-443-0572 in the Washington, DC area), code 3014510564. Please call the Information Line for up-to-date information on this meeting.

Agenda: The subcommittee will discuss the scientific issues and principles involved in using “total fat” as a disqualifying level for foods that receive a health claim for coronary heart disease; and to discuss evidence supporting a possible daily value (DV) for trans fatty acids.

Procedure: Interested persons may present data, information, or views, orally or in writing, on issues pending before the subcommittee. Written submissions may be made to the contact person by April 13, 2004. Oral presentations from the public will be scheduled between approximately 5 p.m. and 6 p.m. on April 27, 2004. Time allotted for each presentation may be limited. Those desiring to make formal oral presentations should notify the contact person before April 22, 2004, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Jeanne Latham at least 7 days in advance of the meeting.

Notice of this meeting is given under the Federal Advisory Committee Act (5 U.S.C. app. 2).

Dated: March 19, 2004.
Peter J. Pitts,
Associate Commissioner for External Relations.

[FR Doc. 04-6921 Filed 3-26-04; 8:45 am]

BILLING CODE 4160-01-S